DEPARTMENT OF ENERGY

Federal Energy Regulatory Commission

Combined Notice of Filings #1

Take notice that the Commission received the following exempt wholesale generator filings:

Docket Numbers: EG13-37-000.

Applicants: Centinela Solar Energy, LLC.

Description: Notice of Self-Certification of EWG Status.

Filed Date: 5/28/13.

Accession Number: 20130528-5145.

Comments Due: 5 p.m. ET 6/18/13.

Take notice that the Commission received the following electric rate filings:

Docket Numbers: ER13-830-003.

Applicants: J.P. Morgan Ventures Energy Corporation.

Description: JPMVEC Cost-Based Compliance Filing to be effective 4/1/2013.

Filed Date: 5/28/13.

Accession Number: 20130528-5072.

Comments Due: 5 p.m. ET 6/18/13.

Docket Numbers: ER13-1169-001.

Applicants: Midcontinent Independent System Operator, Inc.

Description: 05-28-13 Attachment MM Supplement to be effective 6/1/2013.

Filed Date: 5/28/13.

Accession Number: 20130528-5054.

Comments Due: 5 p.m. ET 6/18/13.

Docket Numbers: ER13-1248-001.

Applicants: Patua Project LLC.

Description: Supplement to Application for Order Accepting Market-Based Rate Tariff of Patua Project LLC.

Filed Date: 5/28/13.

Accession Number: 20130528-5114.

Comments Due: 5 p.m. ET 6/18/13.

Docket Numbers: ER13-1249-001.

Applicants: Myotis Power Marketing LLC.

Description: Supplement to Application for Order Accepting Market-Based Rate Tariff of Myotis Power Marketing LLC.

Filed Date: 5/28/13.

Accession Number: 20130528-5111.

Comments Due: 5 p.m. ET 6/18/13.

Docket Numbers: ER13-1559-000.

Applicants: PJM Interconnection, L.L.C.

Description: Queue Position P20; Original Service Agreement No. 3562 to be effective 4/26/2013.

Filed Date: 5/28/13.

Accession Number: 20130528-5074.

Comments Due: 5 p.m. ET 6/18/13.

Docket Numbers: ER13-1560-000.

Applicants: PJM Interconnection, L.L.C.

Description: Queue Position W4-004B_AT11; Original Service Agreement No. 3563 to be effective 4/26/2013.

Filed Date: 5/28/13.

Accession Number: 20130528-5078.

Comments Due: 5 p.m. ET 6/18/13.

Docket Numbers: ER13-1561-000.

Applicants: Centinela Solar Energy, LLC.

Description: Application for Market-Based Rate Authorization to be effective 5/29/2013.

Filed Date: 5/28/13.

Accession Number: 20130528-5090.

Comments Due: 5 p.m. ET 6/18/13.

Docket Numbers: ER13-1562-000.

Applicants: Catalina Solar Lessee, LLC.

Description: Catalina Solar Lessee Initial Baseline MBR Application Filing to be effective 7/8/2013.

Filed Date: 5/28/13.

Accession Number: 20130528-5097.

Comments Due: 5 p.m. ET 6/18/13.

Docket Numbers: ER13-1563-000.

Applicants: PJM Interconnection, L.L.C.

Description: Cancellation of an ISA—Original Service Agreement No. 2819 to be effective 4/26/2013.

Filed Date: 5/28/13.

Accession Number: 20130528-5118.

Comments Due: 5 p.m. ET 6/18/13.

Take notice that the Commission received the following electric securities filings:

Docket Numbers: ES13-26-000.

Applicants: Central Maine Power Company.

Description: Application Pursuant to Section 204 FPA of Central Maine Power Company.

Filed Date: 5/28/13.

Accession Number: 20130528-5155.

Comments Due: 5 p.m. ET 6/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2013.
Nathaniel J. Davis, Sr.,
Deputy Secretary.

[FR Doc. 2013-13591 Filed 6-6-13; 8:45 am]

BILLING CODE 6717-01-P